ENVIRONMENTAL PROTECTION AGENCY

40 CFR Part 52

[PA-4116a; FRL-7037-2]

Approval and Promulgation of Air Quality Implementation Plans; Pennsylvania; VOC and NOX RACT Determinations for Eighteen Individual Sources in the Philadelphia-Wilmington-Trenton Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for 18 major sources of volatile organic compounds (VOC) and nitrogen oxides (NOX). These sources are located in the Philadelphia-Wilmington-Trenton ozone nonattainment area (the Philadelphia area). EPA is approving these revisions to establish RACT requirements in the SIP in accordance with the Clean Air Act (CAA).

DATES: This rule is effective on October 4, 2001 without further notice, unless EPA receives adverse written comment by September 19, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Melik Spain at (215) 814-2299, the EPA Region III address above or by e-mail at spain.melik@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992 and apply to the Pennsylvania submittal. The Pennsylvania SIP has approved RACT regulations and requirements for all sources and source categories covered by the CTG's.

On February 4, 1994, PADEP submitted a revision to its SIP to require major sources of NOX and additional major sources of VOC emissions (not covered by a CTG) to implement RACT. The February 4, 1994 submittal was amended on May 3, 1994 to correct and clarify certain presumptive NOX RACT requirements. In the Philadelphia area, a major source of VOC is defined as one having the potential to emit 25 tons per year (tpy) or more, and a major source of NOX is also defined as one having the potential to emit 25 tpy or more. Pennsylvania's RACT regulations require sources, in the Philadelphia area, that have the potential to emit 25 tpy or more of VOC and sources which have the potential to emit 25 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/ NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Bucks, Chester, Delaware, Montgomery and Philadelphia Counties; the limited approval of Pennsylvania's generic VOC and NOX RACT regulations shall convert to a full approval for the Philadelphia area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case-by-case RACT determination for a major source of NOX in no way relieves that source from any applicable requirements found in 25 PA Code Chapters 121, 123 and 145.

On September 20, 1995, April 16, 1996, May 2, 1996, July 2, 1997, July 24, 1998, December 7, 1998, April 9, 1999, and April 20, 1999, PADEP submitted revisions to the Pennsylvania SIP which establish and impose RACT for several sources of VOC and/or NOX. This rulemaking pertains to 18 of those sources. The remaining sources are or have been the subject of separate rulemakings. The Commonwealth's submittals consist of plan approvals and operating permits which impose VOC and/or NOX RACT requirements for each source. These sources are all located in the Philadelphia area.

II. Summary of the SIP Revisions

The table below identifies the sources and the individual plan approvals (PAs) and operating permits (OPs) which are the subject of this rulemaking. A summary of the VOC and NOX RACT determinations for each source follows the table.

Pennsylvania—VOC and NOX RACT Determinations for Individual Sources
Source | County | Plan approval (PA #) operating permit (OP #) | Source type | “Major source” pollutant
1. Amerada Hess Corp. | Philadelphia | PA-51-5009 | Gasoline Terminal | VOC.
2. Amoco Oil Company | Philadelphia | PA-51-5011 | Gasoline Terminal | VOC.
3. Cartex Corporation | Bucks | OP-09-0076 | Synthetic Materials Manufacturer | VOC.
4. Exxon Company, USA | Philadelphia | PA-51-5008 | Gasoline Terminal | VOC.
5. GATX Terminals Corporation | Philadelphia | PA-51-5003 | Bulk Storage | VOC.
6. Hatfield Quality Meats, Incorporated | Montgomery | OP-46-0013A | Meat Packing | NOX.
7. J. L. Clark, Incorporated | Lancaster | OP-36-02009 | Graphic Arts/Surface Coating | VOC.
8. Johnson Matthey, Incorporated | Chester | OP-15-0027 | Surface Coating | VOC/NOX.
9. Kurz Hastings, Incorporated | Philadelphia | PA-51-1585 | Graphic Arts | VOC.
10. Lawrence McFadden Company | Philadelphia | PA-51-2074 | Paint Manufacturer | VOC.
11. Philadelphia Baking Company | Philadelphia | PA-51-3048 | Bakery | VOC.
12. Philadelphia Gas Works | Philadelphia | PA-51-4921 | Natural Gas Transmission | NOX.
13. PPG Industries, Incorporated | Delaware | OP-23-0005 | Chemical Manufacturer | VOC.
14. SmithKline Beecham Pharmaceuticals | Montgomery | OP-46-0035 | Pharmaceutical Manufacturer | VOC/NOX.
15. Teva Pharmaceuticals, USA | Bucks | OP-09-0010 | Pharmaceutical Manufacturer | VOC.
16. The Philadelphian Condominium Building | Philadelphia | PA-51-6512 | Cogeneration Plant | NOX.
17. Warner Company | Chester | OP-15-0001 | Lime Kiln | NOX.
18. Webcraft Technologies, Incorporated | Bucks | OP-09-0009 | Graphic Arts | VOC.

A. Amerada Hess Corp.

Amerada Hess Corp. (Amerada) operates a gasoline terminal in Philadelphia, Pennsylvania. Amerada maintains 3 gasoline and 7 distillate oil storage tanks. Amerada also operates a loading rack. VOC RACT is applicable to Amerada based on the facility's potential emissions. Amerada is not a major NOX-emitting source. The gasoline and distillate oil storage tanks at this facility are covered by existing SIP-approved Pennsylvania VOC RACT regulations. The loading rack is equipped with a vapor recovery unit. The Philadelphia Air Management Services (AMS) issued PA 50-5009 to Amerada. The PADEP submitted PA 50-5009 to EPA as a SIP revisions, on behalf of AMS. The AMS determined that VOC RACT for Amerada's fugitive VOC emissions is the implementation of a visual leak detection and repair (LDAR) program for all pumps, valves, and flanges at the facility. This LDAR program will be conducted quarterly. The records containing the details of all inspections and repairs will be collected and retained in compliance with the RACT requirements of 25 Pa Code 129.91-129.94. All process equipment and associated air pollution control devices must be maintained and operated in accordance with good engineering and air pollution control practices.

B. Amoco Oil Company

Amoco Oil Company (Amoco) owns and operates a gasoline terminal in Philadelphia, Pennsylvania. Amoco maintains 5 gasoline storage tanks and operates a loading rack. Amoco is subject to VOC RACT. Amoco is not a major NOX-emitting source. The AMS issued PA 50-5011 to Amoco. The PADEP submitted PA 50-5011 to EPA as a SIP revision on behalf of AMS. The gasoline storage tanks at this facility are covered by existing SIP-approved Pennsylvania VOC RACT regulations. The loading rack is equipped with a vapor recovery unit. The VOC RACT determination for Amoco's fugitive VOC emissions consists of implementation of a LDAR program for all pumps, valves, and flanges at the facility. This LDAR program will be conducted every other month. The records containing the details of all inspections and repairs will be collected and retained in compliance with the RACT requirements of 25 Pa Code 129.91-129.94. All process equipment and associated air pollution control devices must be maintained and operated in accordance with good engineering and air pollution control practices.

C. Cartex Corporation

Cartex Corporation (Cartex) operates a polyurethane foam manufacturing line at its facility in Bucks County, Pennsylvania. The PADEP issued OP 09-0076 to Cartex and submitted it to EPA as a SIP revision. Cartex produces polyurethane foam seat cushions. Urethane is injected into a mold along with a mold releasing agent to aid in the release of the polyurethane foam seat cushions. There are cleaning activities associated with the use of polyurethane on this production line that are responsible for fugitive VOC emissions. VOC RACT is applicable to Cartex based on the facility's potential emissions. Cartex is not a major NOX-emitting source. Cartex is subject to SIP-approved RACT regulation 25 Pa Code 129.91-129.95. OP 09-0076 requires the use of electrostatic or high volume low pressure application equipment for the application of the mold releasing agents employed at this facility. The operating permit imposes VOC emission limits of 28.1lbs/hr and 49 tons per year (tpy) from Cartex's polyurethane foam manufacturing line and 2.7 tpy from the use of clean-up solvents. The annual limits must be met on a rolling monthly basis over every consecutive 12 month period. The OP includes the record-keeping requirements necessary to demonstrate compliance. All process equipment and associated air pollution control devices must be maintained and operated in accordance with good engineering and air pollution control practices.

D. Exxon Company, U.S.A.

Exxon Company, U.S.A. (Exxon) owns and operates a gasoline terminal in Philadelphia, Pennsylvania. The site stores gasoline, distillate oil, and additives in its 13 storage tanks. This facility also operates a loading rack. Exxon is subject to VOC RACT based on the facility's potential emissions. Exxon is not a major NOX-emitting source. The gasoline, distillate oil and additive storage tanks at this facility are covered by existing SIP-approved Pennsylvania VOC RACT regulations. The loading rack is equipped with a vapor recovery unit. The AMS issued PA 51-5008 to Exxon, and PADEP submitted it to EPA as a SIP revision. The AMS determined RACT for Exxon's fugitive VOC emissions as the implementation of a LDAR program for all pumps, valves, and flanges at the facility. This LDAR program shall be conducted quarterly. The records containing the details of all inspections and repairs will be collected and retained in compliance with the RACT requirements of 25 Pa Code 129.91-129.94. All process equipment and associated air pollution control devices must be maintained and operated in accordance with good engineering and air pollution control practices.

E. GATX Terminals Corporation

GATX Terminals Corporation (GATX) owns and operates a bulk storage terminal in Philadelphia, Pennsylvania. The facility's operations include loading and unloading a mixture of organic compounds from barge or ship to storage tanks. Tank rail cars and trucks are loaded from the storage tanks. Support equipment involved in maintaining these operations include, a thermal oxidizer, boilers, oil/water separators, and storage tanks. Fugitive emissions come from the many valves, flanges, and pumps located throughout the terminal. Based on the potential emissions, GATX is subject to a case-by-case VOC and NOX RACT evaluation pursuant to 25 Pa Code 129.91(d). The AMS issued PA-51-5003 to GATX to establish VOC and NOX RACT, and PADEP submitted it to EPA as a SIP revision. The PA imposes an annual VOC emissions limit of 59 tpy for GATX's marine vessel loading operations. The marine vessel loading operations will not process petroleum distillate with a vapor pressure greater than 4 Reid vapor pressure (RVP). The 11 tank/truck loading racks are limited to a vapor pressure lower than 4 RVP when processing organic liquids. An emissions cap of 129 tpy of VOC applies to the tank/truck loading racks. The annual limits must be met on a rolling monthly basis over every consecutive 12 month period. There are 6 loading racks that vent to a thermal oxidizer in compliance with 25 Pa Code 129.59. GATX operates 2 boilers in compliance with 25 Pa Code 129.93(c)(1). The storage tanks at this facility are also regulated by existing SIP-approved Pennsylvania RACT regulations. AMS' case-by-case determination for GATX's fugitive VOC emissions imposes implementation of an LDAR program for all pumps, valves, and flanges at the facility. This LDAR program will be conducted quarterly. The records containing the details of all inspections and repairs will be collected and retained in compliance with the RACT requirements of 25 Pa Code 129.91-129.94. All process equipment and associated air pollution control devices must be maintained and operated in accordance with good engineering and air pollution control practices.

F. Hatfield Quality Meats, Incorporated

Hatfield Quality Meats, Incorporated (Hatfield) is a meat packing facility. The majority of the emission sources at this facility are subject to SIP-approved presumptive RACT regulations found in Pa Code 129.93, with the exception of a Cleaver-Brooks boiler rated at 50 million British thermal units per hour (MMBtu/hr). All sources above de minimis levels at this facility are already regulated by existing requirements. The PADEP issued OP 46-0013A to Hatfield restricting the heat input of the Hatfield Cleaver-Brooks boiler to no more than 49 MMBtu/hr. This boiler is subject to 25 Pa Code 129.93(b)(2).

G. J. L. Clark, Incorporated

J. L. Clark Inc. (J. L. Clark) operates a decorative metal can coating and graphic arts facility in Lancaster County, Pennsylvania. J. L. Clark produces high quality metal cans using automation, state of the art computerized graphics and precision lithography. J. L. Clark uses high solids coatings. The sources subject to a case-by-case VOC RACT evaluation pursuant to 25 Pa Code 129.91(d) include 3 surface coating lines and 3 printing/surface coating lines. J. L. Clark is not a major NOX-emitting source. The Commonwealth issued OP 36-02009 to require RACT for the coating operations as the use of surface coatings that meet the allowable limits listed in 25 Pa Code 129.52 for miscellaneous metal parts, or use of incineration to comply with the control efficiency requirements of 25 Pa Code 129.52 (b)(2), with incineration occurring at a minimum operating temperature of 1400 degrees F with a minimum retention time of 0.3 seconds. The heatset lithographic printing operations at this facility will also use thermal incineration to control the VOCs from the dryers exhaust. Incineration shall not be used when printing inks or varnishes cover less than 50 percent of the sheets as this level of coverage represents minor emissions. OP-36-02009 requires improved work practice standards for the cleaning operations. Records containing data necessary to calculate the VOC content of the coatings and cleaning solvents must be kept by J. L. Clark and reported to the PADEP annually. All process equipment and associated air pollution control devices must be maintained and operated in accordance with good engineering and air pollution control practices.

H. Johnson Matthey, Incorporated

Johnson Matthey, Incorporated (Johnson Matthey), operates a catalytic converter manufacturing and Research and Development (R&D) facility in Chester County, Pennsylvania. Johnson Matthey uses 5 surface coating lines and various drying ovens to manufacture autocatalysts. The majority of this facility's VOC and NOX emissions result from the exhaust released from the thermal breakdown of the coatings applied to the autocatalysts. Johnson Matthey currently uses caustic scrubbing to treat the exhaust that comes from the ovens. Caustic scrubbing helps to remove acetic acid, acetaldehyde, formaldehyde, and hydrochloric acid at high efficiencies. The combination of these chemicals in addition to acetone excludes other VOC and NOX control technologies (i.e., carbon adsorption and incineration) from consideration. The Commonwealth issued a revised version of OP 15-0027 to Johnson Matthey on April 15, 1999 to establish VOC and NOX RACT. The OP imposes VOC limits of 3.0 lbs/hr, 15.0 lbs/day and 2.7 tpy on the Devon I & II Hoods, Devon I Oven and Devon II Engine Test Cells and annual NOX limits of 0.08 tpy, 2.1 tpy and 11.0 tpy, respectively on these units. Lines No. 1 & 2 PGM Drying Ovens, PGM Coater, and Stabilizer & Hard Fire Drying Ovens are limited to 98.3 tpy of NOX. Lines No. 3 & 4 Stabilizer, Hard Fire and PGM Drying Ovens, and lines No. 3 & 4 PGM coater, Devon II PGS Coater and Devon II PSG Oven are limited to annual NOX limits of 26.6 tpy. The OP also imposes an operational limitation of 500 hr/year on the facility's Detroit Emergency Generator and Caterpillar Emergency Generators. The OP imposes pressure drop requirements and other operational requirements on the facility's scrubbers. All annual limits must be met on a rolling monthly basis over every consecutive 12 month period. All process equipment and any associated air pollution control devices must be maintained and operated in accordance with good engineering and air pollution control practices. The OP requires Johnson Matthey to record and maintain all the information necessary to determine compliance in accordance with 25 Pa Code section 129.95.

I. Kurz Hastings Incorporated

Kurz Hastings, Incorporated (Kurz), owns and operates a printing facility in Philadelphia, Pennsylvania. The facility is equipped with an ink mixing area that consists of mixing vessels, storage tanks, and drums containing raw materials. The mixing room and the cleaning operations at the facility are subject to a case-by-case RACT evaluation. Based on the potential emissions, Kurz is subject to a case-by-case VOC RACT evaluation pursuant to 25 Pa Code 129.91(d).

The AMS issued PA 51-1585 to Kurz imposing work practice standards on the ink mixing area as RACT. The PADEP submitted PA 51-1585 to EPA as a SIP revision on behalf of AMS. Kurz will comply with RACT for VOC by implementing work practices including that all containers of VOC materials be covered when not in use, that the mixing stations be equipped with lids to minimize emissions while in use, that instructions be posted to prevent spills, that all spills be cleaned-up immediately and all cleaning materials be disposed of in closed containers. The OP specifies that the combustion sources at Kurz are subject to the SIP-approved presumptive RACT limits of 25 Pa Code 129.93(c). All combustion sources must be installed, operated, and maintained in accordance with manufacturers' specifications. The records containing the details necessary to determine compliance will be collected and retained in compliance with the RACT requirements of 25 Pa Code 129.91-129.94. All process equipment and associated air pollution control devices must be maintained and operated in accordance with good engineering and air pollution control practices.

J. Lawrence McFadden Company

The Lawrence McFadden Company (Lawrence) is a paint manufacturing facility. The paint manufacturing process involves blending pigments with solvents. These mixtures are packaged as final product. The majority of Lawrence's fugitive emissions come from its lacquer manufacturing area. Lawrence is subject to a case-by-case VOC RACT evaluation pursuant to 25 Pa Code 129.91(d). The AMS issued PA 51-2074 to Lawrence to establish VOC RACT, and PADEP submitted it to EPA as a SIP revision. The PA imposes a 50 tpy limit of VOC on the facility to be met on a rolling monthly basis over every consecutive 12 month period. The PA also imposes improved operating procedures and standards in accordance with CTG, Control of VOC Emissions from Ink and Paint Manufacturing Processes, EPA-450/3/92-013. The PA also specifies that the 2 combustion sources at Lawrence are subject to the SIP-approved presumptive RACT limits of 25 Pa Code 129.93(c). All combustion sources must be installed, operated, and maintained in accordance with manufacturers' specifications. The records containing the details necessary to determine compliance will be collected and retained in compliance with the RACT requirements of 25 Pa Code 129.91-129.94. All process equipment and associated air pollution control devices must be maintained and operated in accordance with good engineering and air pollution control practices.

K. Philadelphia Baking Company

Philadelphia Baking Company (PBC), owns and operates a bread production facility in Philadelphia, Pennsylvania. The facility operates 2 baking ovens (A & B) and 2 boilers (#1 & #2). The boilers each have a rated capacity of less than 10 MMBtu/hr and fire natural gas or propane. The oven heaters fire natural gas or propane. The baking ovens emit VOC (ethanol) from miscellaneous baking products (yeast products) driven off during the baking process. PA-51-3048 was issued to PBC by AMS to establish VOC RACT, and PADEP submitted it to EPA as a SIP revision. AMS requires the use of a catalytic oxidizer on baking ovens A and B. The catalytic oxidizer must comply with the SIP-approved RACT requirements of 25 Pa Code 129.91(f). The two small boilers are subject to the SIP-approved presumptive RACT limits of 25 Pa Code 129.93(c). The records containing the details necessary to determine compliance will be collected and retained in compliance with the RACT requirements of 25 Pa Code 129.91-129.94. All process equipment and associated air pollution control devices must be maintained and operated in accordance with good engineering and air pollution control practices.

L. Philadelphia Gas Works

Philadelphia Gas Works (PGW) owns and operates a natural gas storage and distribution facility in Philadelphia, Pennsylvania. The facility's emissions result from the use of boilers, natural gas heaters, natural gas engines for electric generation, liquified petroleum (LP)-Air natural gas turbines, and LPG vaporizers. Based on the potential emissions, PGW is subject to a case-by-case NOX RACT evaluation pursuant to 25 Pa Code 129.91(d). This facility is not a major source of VOC. The Philadelphia AMS issued PA 51-4921 to PGW to establish NOX RACT, and PADEP submitted it to EPA as a SIP revision. The PA requires the shutdown of PGW's two 96 MMBtu/hr synthetic natural gas boilers and 6 natural gas engines, and the replacement of these boilers with three 58.7 MMBtu/hr boilers that fire natural gas only and are equipped with Peabody parallel flow multi-staged low NOX burners. These boilers are limited to 0.1 lbs of NOX/MMBtu. PA 51-4921 requires that PGW conduct performance tests on these boilers. The remainder of the combustion sources at this facility are subject to the SIP-approved presumptive RACT requirements of 25 Pa Code 129.93(c). The records containing the details necessary to determine compliance will be collected and retained in compliance with the RACT requirements of 25 Pa Code 129.91-129.94. All process equipment and associated air pollution control devices must be maintained and operated in accordance with good engineering and air pollution control practices.

M. PPG Industries, Incorporated

PPG Industries, Incorporated (PPG) located in Delaware County, Pennsylvania, manufactures a variety of surfactants via batch processing. The facility includes a CI filter press, drop tanks, still feed tank, vacuum pump/atmospheric receiver, slurry tanks and a number of surge, recovery, and storage tanks containing fatty acids, alcohols and other non-ionics. The VOC emissions emanate primarily from the use of isopropyl alcohol (IPA). The facility's fugitive emissions result from leaking valves, pumps, and flanges. Based on the potential emissions, PPG is subject to a case-by-case VOC RACT evaluation pursuant to 25 Pa Code 129.91(d). This facility is not a major NOX-emitting source. The PADEP imposes RACT for PPG in OP 23-0005. The PPG must use a catalytic thermal oxidizer (CTO) to control VOC emissions from the CI filter press, drop tanks, still feed tank, vacuum pump/atmospheric receiver, and slurry tanks. The operation of these sources must be terminated if the CTO is inoperable. The overall efficiency of the CTO must be 95 percent. The CTO must maintain a minimum temperature of 470 degrees F and must be equipped with a visual means of monitoring the secondary combustion chamber exit gas temperature. There are two (2) drop tanks at this facility that will use a water cooled condenser as the primary control device, prior to being vented to the CTO. The dryer vacuum pump/atmospheric receiver's primary control device is a chilled IPA condenser which must achieve an overall 90 percent removal efficiency prior to being vented to the CTO. The condenser controlling the drop tanks must maintain a temperature of 100 degrees F or less, and the condenser controlling the dryer vacuum pump/atmospheric receiver must maintain a temperature of 80 degrees F or less. The CI filter press, drop tanks, still feed tank, vacuum pump/atmospheric receiver, slurry tanks identified as Sources, 101, 102a, 102b, 103, 104, 105a and 105 b must limit their VOC emissions to 26.5 lbs/hr, and 8.80 tpy. The alcohol and fatty acid tanks identified as Sources 106a and 106b are limited to VOC emissions of 0.5 lbs/hr and 4.4 tpy. The CI piping component fugitives identified as Source 108 must limit VOC emissions to 9.2 lbs/hr and 15.0 tpy. The non-IPA fugitive emissions identified as Source 109 must limit VOC emissions to 9.2 lbs/hr and 15.0 tpy. The CI reactor at this facility is a de minimis source of VOC emissions and is limited by OP 23-0005 to VOC emissions rates of no greater than 3.0 lbs/hr, 15.0 lbs/day, and 2.7 tpy. The records containing the details necessary to determine compliance will be collected and retained in compliance with 25 Pa Code 129.95. All process equipment and associated air pollution control devices must be maintained and operated in accordance with good engineering and air pollution control practices.

N. SmithKline Beecham Pharmaceuticals

SmithKline Beecham Pharmaceuticals (SmithKline) operates a Research and Development (R&D) facility located in Montgomery County, Pennsylvania. The R&D facility develops new pharmaceutical products. SmithKline is a major emitter of both NOX and VOC. The PADEP issued OP 46-0035 to impose VOC and NOX RACT for SmithKline. Boilers 2 and 3W, rated at 51 MMBtu/hr, are derated to 49 MMBtu/hr. The OP requires the installation of flow transmitters on the existing natural gas orifice plates to permanently restrict the maximum gross heat input of the boilers. The OP specifies a natural gas and fuel oil limitations of less than 49,000 ft³/hr. and 327 gallons/hr, respectively. Boilers 44 and 45 will operate low NOX burners with flue gas recirculation. The total amount of No. 2 fuel oil fired in Boilers 44 and 45 shall not exceed 478 and 286 gallons, respectively in any 12-month rolling period. NOX emissions from the boilers are limited to 30 ppm corrected to 3.0 percent oxygen content when firing natural gas and to 140 ppm corrected to 3.0 percent oxygen when firing No. 2 fuel oil, and 8.2 tpy in a 12 month rolling period. The remainder of the boilers at this facility over 20 MMBtu/hr must perform annual adjustments under 25 Pa Code § 129.93(b)(2) in accordance with EPA guidance document, Combustion Efficiency Optimization Manual for Operators of Oil and Gas-fired Boilers, EPA-340/1-83-023, September 1983. The VOC RACT analysis determined that RACT for the boilers (5-15, 1 and 4W) along with the 3 pathological waste incinerators and the emergency generators will be maintenance and operation in accordance with the manufacturer's specifications and good air pollution engineering control practices. The boilers at this facility have low concentrations of VOC emissions in the exhaust streams. There are no technically viable control technologies for controlling VOC emissions at these low levels. OP 46-0035 specifies that SmithKline will apply white paint to its ethyl acetate storage tanks (V-301-V-306) or install new pressure relief vents. All requirements and records necessary to determine compliance are specified in OP 46-0035. All process equipment and associated air pollution control devices must be maintained and operated in accordance with good engineering and air pollution control practices.

O. Teva Pharmaceuticals USA

Teva Pharmaceuticals USA (Teva) operates a pharmaceutical manufacturing facility in Bucks County, Pennsylvania. Teva manufactures acetaminophen. Production of acetaminophen tablets involve mixing a binding agent in solution with isopropyl alcohol. The VOC emissions emanate as the alcohol is removed from the product during the drying stage in the ovens. The PADEP issued OP 09-0010 to Teva. The PADEP determined VOC emissions have been reduced drastically due to Teva's use of the direct compression process in their acetaminophen production operations. Direct compression does not require the use of a binding agent to produce a granulated product for compression on the tablet press. The PADEP RACT determination requires Teva to use less isopropyl alcohol and to employ no dryer in this new manufacturing process. Total VOC emissions from the facility shall not exceed 24.0 tpy calculated as a 12 month rolling sum over every consecutive 12 month period. The records containing the details necessary to determine compliance will be collected and retained in compliance with 25 Pa Code 129.95.

P. The Philadelphian Condominium Building

The Philadelphian Condominium Building (PCB) owns and operates a 2,200 horse power Cooper Superior dual fuel reciprocating engine in its condominium building. The engine burns natural gas and diesel fuel. Based on the potential emissions, PCB is subject to a case-by-case NOX RACT evaluation pursuant to 25 Pa Code 129.91(d). This facility is not a major VOC-emitting source. The Philadelphia AMS issued PA 51-6512 to PCB, and PADEP submitted it to EPA as a SIP revision. The AMS determined NOX RACT for PCB to be the implementation of injection timing retard on its dual fuel reciprocating engine. The PA limits the NOX emissions from the stack outlet to 4.1 grams per brake-horsepower-hour and 69 tpy. The annual limit must be met on a rolling monthly basis over every consecutive 12 month period. The records containing the details necessary to determine compliance will be collected and retained in compliance with the RACT requirements of 25 Pa Code 129.91-129.94.

Q. Warner Company

Warner Company (Warner) located in Chester County, Pennsylvania manufactures lime. Warner operates two (2) rotary lime kilns that fire pulverized bituminous coal. Rotary lime kiln No. 2 has a heat capacity of 95 MMBtu/hr. Rotary lime kiln No. 3 is rated at 85 MMBtu/hr. Warner is a major source of NOX. Warner is not subject to a case-by-case VOC RACT evaluation pursuant to 25 Pa Code 129.91(d). The PADEP imposes RACT in OP 15-0001. The OP requires the installation of an oxygen combustion analyzer for rotary lime kilns No. 2 & 3. The NOX limit for kiln No. 2 is 0.45 lbs of NOX/MMBtu when firing pulverized bituminous coal and 0.46 lbs/MMBtu of NOX from Kiln No. 3 when firing pulverized bituminous coal. The hours of operation of the No. 2 & 3 lime kilns is limited to 7,920 hr/year to be met on a rolling monthly basis over every consecutive 12 month period. The PADEP determined that Warner's use of oxygen analyzers to fine tune the air flow rate in the combustion chamber of their pulverized coal fired kilns to reduce NOX as RACT. The OP requires that stack testing be performed in accordance with 25 Pa Code Chapter 139 and with additional conditions specified in OP 15-0001. All requirements and records necessary to determine compliance are specified in OP 15-0001.

R. Webcraft Technologies, Incorporated

Webcraft Technologies, Incorporated (Webcraft), operates a graphic arts facility. Webcraft is subject to both case-by-case VOC and NOX RACT evaluations pursuant to 25 Pa Code 129.91(d). The PADEP issued OP 09-0009 to Webcraft to impose VOC and NOX RACT. Total facility emissions of VOC (excluding Press No. 18) are limited to no more than 40.5 tpy. Total facility emissions of NOX from all combustion sources (excluding Press No. 18) are limited to no more than 24.23 tpy. Annual limits are to be met on a rolling monthly basis over every consecutive 12 month period. Webcraft uses 7 heatset web offset lithographic printing presses and 2 electropresses. The primary contributor of VOC emissions in these processes is the solvent in the ink, which is driven off in the drying ovens. VOC emissions at this facility also come from fountain solutions and cleaning solvents. Webcraft operates an automatic blanket washing system to remove ink from various press components, while some cleaning solvents are applied manually. The PADEP imposed VOC control requirements consistent with the September 1993 CTG (EPA-453/D-95-001) for the Offset Lithographic Printing Industry. The PADEP determined RACT for Webcraft's cleaning solvents as maintenance of low vapor pressure solutions. The fountain solution used on the printing presses does not contain isopropyl alcohol. Instead, Webcraft is required to use alcohol substitutes (2-butoxyethanol or butyl cellusolve) in its fountain solution. OP-09-0009 limits the fountain solution to a concentration of 3.0 percent of VOC or the use of refrigeration at or below 60 degrees F. The Combustion Engineering boiler (49 MMBtu/hr) and the Brian Water Tube boiler are limited to operating restrictions of 2,880 hours and 4,368 hours respectively during any 12-month rolling period. The Combustion Engineering Boiler's fuel consumption is limited to 99,360 gallons of No. 2 fuel oil per year. The 2 electropresses in use at this facility contain dryers that are designed to evaporate and remove toner solvents from the web, treat the solvent laden exhaust, and recycle a part of the treated exhaust air to the process with an efficiency of 99 percent. OP 09-0009 imposes more stringent requirements in conditions 12. A-M on Press No. 18. These include the use of a thermal oxidizer with a inlet temperature of 550 degrees F and a minimum destruction efficiency of 95 percent. Press No. 18 may only be operated when the thermal oxidizer and dryer are operational. The VOC emissions from Press No. 18 due to ink usage is limited to 5.15 tpy calculated as 20 percent of the ink retained on the paper and 95 percent of the ink leaving the press being destroyed by the thermal oxidizer. The total VOC from Press No. 18 from the use of ink, wetting, fountain solution and blanket wash/up clean-up solvent shall be limited to 7.40 tpy. The NOX emissions from the dryer are limited to 0.53 lbs/hr and 2.32 tpy. The VOC and NOX emission sources at this facility will be operated and maintained in a manner consistent with good air pollution engineering control practices. All requirements and records necessary to determine compliance are specified in OP 09-0009.

III. EPA's Evaluation of Pennsylvania's SIP Revisions

EPA is approving Pennsylvania's RACT SIP submittals because AMS and PADEP established and imposed these RACT requirements in accordance with the criteria set forth in the SIP-approved RACT regulations applicable to these sources. The Commonwealth has also imposed record-keeping, monitoring, and testing requirements on these sources sufficient to determine compliance with the applicable RACT determinations.

IV. Final Action

EPA is approving the SIP revisions to the Pennsylvania SIP submitted by PADEP to establish and require VOC and NOX RACT for 18 major sources located in the Philadelphia area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 4, 2001 without further notice unless EPA receives adverse comment by September 19, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for 18 named sources.

C. Petitions for Judicial Review

Under section 307(b)(1) of the Clean Air Act, petitions for judicial review of this action must be filed in the United States Court of Appeals for the appropriate circuit by October 19, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from 18 individual sources in the Philadelphia area may not be challenged later in proceedings to enforce its requirements. (See section 307(b)(2).)

List of Subjects in 40 CFR Part 52

Environmental protection, Air pollution control, Hydrocarbons, Incorporation by reference, Nitrogen Oxides, Ozone, Reporting and recordkeeping requirements.

Dated: August 10, 2001.
Judith M. Katz,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(156) to read as follows:

§ 52.2020 Identification of plan.

* * * * *

(c) * * *

(156) Revisions to the Pennsylvania Regulations, Chapter 129 pertaining to VOC and NOX RACT determinations for sources located in the Philadelphia area submitted by the Pennsylvania Department of Environmental Protection on September 20, 1995, April 16, 1996, May 2, 1996, July 2, 1997, July 24, 1998, December 7, 1998, April 9, 1999, and April 20, 1999.

(i) Incorporation by reference.

(A) Letters submitted by the Pennsylvania Department of Environmental Protection transmitting source-specific VOC and/or NOX RACT determinations, in the form of plan approvals and operating permits on September 20, 1995, April 16, 1996, May 2, 1996, July 2, 1997, July 24, 1998, December 7, 1998, April 9, 1999, and April 20, 1999.

(B) Plan approvals (PA), Operating permits (OP) issued to the following sources:

(1) Amerada Hess Corp., PA-51-5009, for PLID 5009, effective May 29, 1995.

(2) Amoco Oil Company, PA-51-5011, for PLID 5011, effective May 29, 1995.

(3) Cartex Corporation, OP-09-0076, effective April 9, 1999, except for the expiration date.

(4) Exxon Company, U.S.A., PA-51-5008, for PLID 5008, effective May 29, 1995.

(5) GATX Terminals Corporation, PA-51-5003, for PLID 5003, effective May 29, 1995.

(6) Hatfield, Inc., OP-46-0013A, effective January 9, 1997 (as revised October 1, 1998), except for the expiration date.

(7) J. L. Clark, Inc., OP-36-02009, effective April 16, 1999, except for the expiration date.

(8) Johnson Matthey, Inc., OP-15-0027, effective August 3, 1998 (as revised April 15, 1999), except for the expiration date.

(9) Kurz Hastings, Inc., PA-51-1585, for PLID 1585, effective May 29, 1995.

(10) Lawrence McFadden, Inc., PA 51-2074, for PLID 2074, effective June 11, 1997.

(11) Philadelphia Baking Company, PA-51-3048, for PLID 3048, effective April 10, 1995.

(12) Philadelphia Gas Works, PA-51-4921, for PLID 4921, effective May 29, 1995.

(13) PPG Industries, Inc., OP-23-0005, effective June 4, 1997, except for the expiration date.

(14) SmithKline Beecham Pharmaceuticals, OP-46-0035, effective March 27, 1997 (as revised October 20, 1998), except for the expiration date.

(15) Teva Pharmaceuticals USA, OP-09-0010, effective April 9, 1999, except for the expiration date.

(16) The Philadelphian Condominium Building, PA-51-6512, for PLID 6512, effective May 29, 1995.

(17) Warner Company, OP-15-0001, effective July 17, 1995 except for the expiration date.

(18) Webcraft Technologies, Inc., OP-09-0009, effective April 18, 1996 (as revised October 15, 1998), except for the expiration date.

(ii) Additional Materials—Other materials submitted by the Commonwealth of Pennsylvania in support of and pertaining to the RACT determinations for the sources listed in paragraph (c)(156)(i)(B) of this section.

[FR Doc. 01-20881 Filed 8-17-01; 8:45 am]

BILLING CODE 6560-50-U